DEPARTMENT OF HEALTH AND HUMAN SERVICES

Administration for Children and Families

Submission for Office of Management and Budget Review; Title V State Sexual Risk Avoidance Education (Office of Management and Budget #0970-0551)

AGENCY: Family and Youth Services Bureau, Administration for Children and Families, United States Department of Health and Human Services.

ACTION: Request for public comments.

SUMMARY: The Family and Youth Services Bureau (FYSB) within the Administration on Children, Youth and Families (ACYF) is accepting mandatory formula grant applications and State plans from States and Territories for the development of and implementation for Title V State Sexual Risk Avoidance Education (SRAE) Program. The Title V State SRAE Notice of Funding Opportunity (NOFO) sets forth the application requirements for recipients. This request is to extend Office of Management and Budget (OMB) approval of the request for information. No changes are proposed.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION: The Title V SRAE Program has mandatory, formula allotments for State and Territories to apply. The application process is for States and Territories to submit and for ACYF/FYSB to collect an application, State plan, and semi-annual performance progress reports.

Purpose and Use of the Information Collection

The application and State plans will offer information about the proposed State project and it will be used as the primary basis to determine whether or not the project meets the minimum requirements of the NOFO for the grant award.

The Performance Progress Reports are collected semi-annually and will inform the monitoring of the grantees' program design, program evaluation, management improvement, service quality and compliance with agreed upon goals. ACYF/FYSB will use the information to assure effective service delivery for program participants. Finally, the data from this collection will be used to report outcomes and efficiencies and will provide valuable information to policy makers and key stakeholders in the development of program and research efforts.

Respondents: Thirty-eight States and nine Territories, to include, District of Columbia, Puerto Rico, Virgin Islands, Guam, American Samoa, Northern Mariana Islands, the Federated States of Micronesia, the Marshall Islands, and Palau.

Annual Burden Estimates
Instrument | Total number of respondents | Annual number of responses per respondent | Average burden hours per response | Annual burden hours
Applications | 47 | 1 | 24 | 1,128
State Plans | 47 | 1 | 40 | 1,880
Performance Progress Reports | 47 | 2 | 16 | 1,504

Estimated Total Annual Burden Hours: 4,512.

Authority: Section 510 of the Social Security Act (42 U.S.C. 710), as amended by section 50502 of the Bipartisan Budget Act of 2018 (Pub. L. 115-123) and extended by Division CC, title III, section 303 of the Consolidated Appropriations Act, 2022 (Pub. L. 117-103).

Mary B. Jones,
ACF/OPRE Certifying Officer.

[FR Doc. 2023-20758 Filed 9-25-23; 8:45 am]

BILLING CODE 4184-83-P